DEPARTMENT OF HOMELAND SECURITY

Transportation Security Administration

Extension of Agency Information Collection Activity Under OMB Review: Department of Homeland Security Traveler Redress Inquiry Program (DHS TRIP)

AGENCY: Transportation Security Administration, DHS.

ACTION: 30-day Notice.

SUMMARY: This notice announces that the Transportation Security Administration (TSA) has forwarded the Information Collection Request (ICR), Office of Management and Budget (OMB) control number 1652-0044, abstracted below to OMB for review and approval of an extension and revision of the currently approved collection under the Paperwork Reduction Act (PRA). The ICR describes the nature of the information collection and its expected burden. TSA published a Federal Register notice, with a 60-day comment period soliciting comments, of the following collection of information on May 6, 2015, 80 FR 26084. The collection involves the submission of identifying and travel experience information by individuals requesting redress through the Department of Homeland Security (DHS) Traveler Redress Inquiry Program (TRIP). The collection also involves two voluntary customer satisfaction surveys to identify areas for program improvement.

DATES: Send your comments by November 2, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Department of Homeland Security Traveler Redress Inquiry Program (DHS TRIP).

Type of Request: Extension of a currently approved collection.

OMB Control Number: 1652-0044.

Forms(s): Traveler Inquiry and Survey Forms.

Affected Public: Traveling Public.

Abstract: DHS TRIP is a single point of contact for individuals who have inquiries or seek resolution regarding difficulties they have experienced during their travel screening. These difficulties could include being: (1) denied or delayed boarding; (2) denied or delayed entry into or departure from the United States at a port of entry; or (3) identified for additional (secondary) screening at our Nation's transportation facilities, including airports, seaports, train stations and land borders. The TSA manages the DHS TRIP office on behalf of DHS. To request redress, individuals are asked to provide identifying information as well as details of their travel experience.

The DHS TRIP office serves as a centralized intake office for traveler requests for redress and uses the online Traveler Inquiry Form (TIF) to collect requests for redress. DHS TRIP then passes the information to the relevant DHS component to process the request, as appropriate (e.g., DHS TRIP passes the form to the appropriate DHS office to initiate the Watch List Clearance Procedure). Participating DHS components include the TSA, U.S. Customs and Border Protection, U.S. Citizenship and Immigration Services, U.S. Immigration and Customs Enforcement, Office of Biometric Information Management, Office of Civil Rights and Civil Liberties, and the Privacy Office, along with the U.S. Department of State, Bureau of Consular Affairs, and the U.S. Department of Justice (Terrorist Screening Center). This collection serves to distinguish misidentified individuals from an individual actually on any watch list used by DHS. Where appropriate, this program helps streamline and expedite future check-in or border crossing experiences.

The collection of information is being revised to include: (1) a modification to the existing Traveler Inquiry Form (TIF) to enhance the redress process for certain individuals and to ensure that the redress process is fair and responsive; and (2) two optional, anonymous customer satisfaction surveys to allow the public to provide DHS feedback on its experience using DHS TRIP.

DHS estimates that completing the TIF, including gathering and submitting the information, will take approximately one hour. In completing the two optional surveys, DHS estimates it will take approximately 10 minutes to complete each survey. The annual respondent population was derived from data contained within the DHS case management database and reflects the projected number of respondents in the next fiscal¹ year. Thus, the total estimated annual burden hours are 15,500. The burden hours for passengers seeking redress, based on 15,000 annual respondents, is 15,000 hours (15,000 x 1). The burden hours for survey respondents, based on 10 percent of the 15,000 annual respondents, is 500 hours (1,500 x 2 x 0.17).

¹ In the 60 day-notice, the annual respondent population of 19,067 was derived from data contained within the DHS case management database and reflected the actual number of respondents for the most recent calendar year.

Number of Respondents: 15,000.

Estimated Annual Burden Hours: An estimated 15,500 hours annually.

Estimated Cost Burden: An estimated $3,375 annually.

Dated: September 28, 2015.
Christina A.Walsh,
TSA Paperwork Reduction Act Officer, Office of Information Technology.

[FR Doc. 2015-25028 Filed 9-30-15; 8:45 am]

BILLING CODE 9110-05-P